DEPARTMENT OF AGRICULTURE

Natural Resources Conservation Service

Notice To Reinstate and Revise a Previously Approved Information Collection

AGENCY: Natural Resources Conservation Service (NRCS), USDA.

ACTION: Notice to reinstate and revise a previously approved information collection for review and comment.

SUMMARY: In accordance with the Paperwork Reduction Act of 1995, this notice announces the intention of the Natural Resources Conservation Service (NRCS) to reinstate and revise a previously approved information collection. The collected information will help NRCS to match the skills of individuals who are applying for volunteer work that will further the Agency's mission. Information will be collected from potential volunteers who are 14 years of age or older.

DATES: Comments on this notice must be received within 60 days after publication in the Federal Register to be assured of consideration.

FOR FURTHER INFORMATION CONTACT: Michele Eginoire, National Earth Team Office, Natural Resources Conservation Service, Suite C, 5140 Park Avenue, Des Moines, Iowa 50321; telephone: (515) 289-0325, extension 102; fax: (515) 289-4561; e-mail: Michele.Eginoire@ia.usda.gov.

SUPPLEMENTARY INFORMATION: Collection of this information is necessary to document the service of volunteers as required by Federal Personnel Manual Supplement 296-33, Subchapter 3. Agencies are authorized to recruit, train, and accept, with regard to civil service classification laws, rules or regulations, the services of individuals to serve without compensation. Volunteers may assist in any Agency program/project and may perform any activities which Agency employees are allowed to conduct. Volunteers must be at least 14 years of age. Persons interested in volunteering will have to write, call, e-mail, visit an NRCS office, or visit the E-Gov Web site to complete and submit the forms.

Description of Information Collection: NRCS-PER-001, Volunteer Application, and the NRCS-PER-003, Agreement for Sponsored Voluntary Services, are the volunteer application forms. After one of these forms is signed by the volunteer group leader and the NRCS representative, the individual or group is enrolled in the NRCS volunteer program. The forms provide contact information for the volunteer, emergency contact information, and a job description. This form is placed in a volunteer “case file” and will be destroyed 3 years after the volunteer has completed service. In the event that the volunteer is injured, the “case file” will be transferred to an Official Personnel Folder (OPF). NRCS-PER-002, Volunteer Interest and Placement Summary, is an optional form that assists the volunteer supervisor in placing the volunteer in a position that will benefit the Agency and the volunteer. The aforementioned form is placed in a volunteer “case file” and will be destroyed 3 years after the volunteer has completed service. In the event that the volunteer is injured, the “case file” will be transferred to an OPF. NRCS-PER-004, Time and Attendance, is an optional form that assists the volunteer supervisor in documenting hours worked by the volunteer, and may be used to substantiate a Workers' Compensation Claim. This form is placed in a volunteer “case file” and will be destroyed 3 years after the volunteer has completed service. In the event that the volunteer is injured, the “case file” will be transferred to an OPF.

Signed in Washington, DC on September 29, 2005.
Bruce I. Knight,
Chief.

[FR Doc. 05-20393 Filed 10-11-05; 8:45 am]

BILLING CODE 3410-16-P